NATIONAL FOUNDATION FOR THE ARTS AND HUMANITIES

Notice of Proposed Information Collection: Assessing the Effectiveness of Various Methods Used To Distribute Funds to U.S. Museums

AGENCY: Institute of Museum and Library Services, National Foundation for the Arts and Humanities.

SUMMARY: The Institute of Museum and Library Services (IMLS) as part of its continuing effort to reduce paperwork and respondent burden, conducts a pre-clearance consultation program to provide the general public and federal agencies with an opportunity to comment on proposed and/or continuing collections of information in accordance with the Paperwork Reduction Act of 1995 (PRA95) [44 U.S.C. 3508(2)(A)]. This program helps to ensure that requested data can be provided in the desired format, reporting burden (time and financial resources) is minimized, collection instruments are clearly understood, and the impact of collection requirements on respondents can be properly assessed. The Institute of Museum and Library Services is soliciting comments on a proposed study to assess the effectiveness of various methods used to distribute funds to the nation's museums.

DATES: Written comments must be submitted to the office listed in the ADDRESSES section below on or before August 6, 2007. IMLS is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: Send comments to: Mamie Bittner, Deputy Director, Office of Policy, Planning, Research, and Communications, Institute of Museum and Library Services, 1800 M Street, NW., 9th Floor, Washington, DC. Ms. Bittner can be reached by telephone: 202-653-4630; fax: 202-653-4600; or e-mail: mbittner@imls.gov.

SUPPLEMENTARY INFORMATION:

I. Background

The Institute of Museum and Library Services is authorized by the Museum and Library Services Act, Public Law 108-81, and is the primary source of federal support for the nation's 122,000 libraries and 17,500 museums. The Institute's mission is to create strong libraries and museums that connect people to information and ideas. The Institute works at the national level and in coordination with state and local organizations to sustain heritage, culture, and knowledge; enhance learning and innovation; and support professional development.

II. Current Actions

To better understand the role of public funding the study will be framed by four questions:

(1) What mechanisms are currently used to deliver public funding to museums from the Federal government and the state government in each of the states to be identified?

(2) For what purposes are state and Federal public funds allocated to museums in each of the states to be identified?

(3) How do delivery mechanisms impact the quality of services? Are there gaps?

(4) Would alternative funding models, such as a population-based state grant, make a significant impact in addressing any identified gaps in museum services?

Once completed, the results of the study will be incorporated into a report which will be made widely available to inform and benefit the museum community and the public at large.

Agency: Institute of Museum and Library Services.

Title: Assessing the Effectiveness of Various Methods Used to Distribute Funds to U.S. Museums.

OMB Number: N/A.

Agency Number: 3137.

Frequency: One time.

Affected Public: Museums, libraries, State Library Administrative Agencies, institutions of higher education, not-for-profit institutions, library and museum professional associations, Native American tribal governments, State and local governments, appointed and elected officials, school officials and educators, and individuals.

FOR FURTHER INFORMATION CONTACT: Mamie Bittner, Deputy Director, Office of Policy, Planning, Research, and Communications, Institute of Museum and Library Services, 1800 M Street, NW., 9th Floor, Washington, DC. Ms. Bittner can be reached by telephone: 202-653-4630; fax: 202-653-4600; or e-mail: mbittner@imls.gov.

Dated: May 30, 2007.
Barbara Smith,
E-Projects Officer.

[FR Doc. E7-10829 Filed 6-5-07; 8:45 am]

BILLING CODE 7036-01-P